DEPARTMENT OF COMMERCE

[Docket No.: PTO-C-2019-0010]

Request for Comments and Notice of Public Hearings on the Report Required by the Study of Underrepresented Classes Chasing Engineering and Science Success Act of 2018

AGENCY: United States Patent and Trademark Office, Department of Commerce.

ACTION: Request for comments; notice of public hearings.

SUMMARY: The United States Patent and Trademark Office (“USPTO”) is interested in gathering information on the participation of women, minorities, and veterans in entrepreneurship activities and the patent system for purposes of preparing a study on the subject as required by the Study of Underrepresented Classes Chasing Engineering and Science (SUCCESS) Act. To assist in gathering this information, the USPTO invites the public to provide comments and to attend public hearings addressing the participation of women, minorities, and veterans in entrepreneurship activities and the patent system.

DATES: The USPTO will hold three (3) public hearings in support of the SUCCESS Act study in locations that provide broad coverage of the Nation. The first public hearing will be held in Alexandria, Virginia, on Wednesday, May 8, 2019, beginning at 9 a.m. and ending at 4 p.m., Eastern Standard Time (EST). The second public hearing will be held in Detroit, Michigan, on Thursday, May 16, 2019, beginning at 9 a.m. and ending at 4 p.m., EST. The third public hearing will be held in San Jose, California, on Monday, June 3, 2019, beginning at 9 a.m. and ending at 4 p.m., Pacific Standard Time.

Oral Testimony: Those wishing to present oral testimony at one of the hearings must request an opportunity to do so in writing no later than May 1, 2019. Speakers providing oral testimony at the hearings should submit a written copy of their testimony for inclusion in the record of the proceedings no later than June 30, 2019.

Written Comments: The deadline for receipt of written comments is June 30, 2019. Written comments should be identified in the subject line of the email or postal mailing as “SUCCESS Act Study.”

ADDRESSES: The first public hearing will be held at the United States Patent and Trademark Office in the Clara Barton Auditorium (formerly the Madison Auditorium), which is located on the concourse level of the USPTO Madison Building, located at 600 Dulany Street, Alexandria, Virginia 22314.

The second public hearing will be held at the Elijah J. McCoy Midwest Regional Office of the USPTO, located in the Stroh Building at 300 River Place Drive, Detroit, Michigan 48207.

The third public hearing will be held at the Silicon Valley United States Patent and Trademark Office, located in the Wing Building of San Jose City Hall at 26 South 4th Street, San Jose, California 95113.

Oral Testimony: Requests to testify must be submitted by email to successact@uspto.gov.

Written Comments: Written comments should be sent by email to successact@uspto.gov. Comments may also be submitted by postal mail addressed to Office of the Chief Economist, Mail Stop OPIA, Director of the U.S. Patent and Trademark Office, P.O. Box 1450, Alexandria, VA 22313-1450. Although comments may be submitted by postal mail, the USPTO prefers to receive comments via email.

Because written comments and testimony will be made available for public inspection, information that a respondent does not desire to be made public, such as a phone number, should not be included in the testimony or written comments.

The public hearings will be available via Webcast. Information about the Webcast will be posted on the USPTO's internet website (address: www.uspto.gov/successact) before the public hearing.

Transcripts of the hearings will be available on the USPTO internet website (www.uspto.gov/successact) shortly after the hearings.

FOR FURTHER INFORMATION CONTACT: Ms. Laura Pope, Office of the Chief Economist by telephone at (571) 272-9880, or by email at successact@uspto.gov.

SUPPLEMENTARY INFORMATION: Section 3 of the Study of Underrepresented Classes Chasing Engineering and Science Success Act (SUCCESS Act) requires the Under Secretary of Commerce for Intellectual Property and Director of the United States Patent and Trademark Office (USPTO), in consultation with the Administrator of the U.S. Small Business Administration (SBA), with delivering to Congress a report on the results of a study on the participation of women, minorities, and veterans in the U.S. patent system. This report is due no later than one year after the enactment of the Act (i.e., by October 31, 2019).

Congress has mandated that the study: (1) Identify publicly available data on the number of patents annually applied for and obtained by, and the benefits of increasing the number of patents applied for and obtained by women, minorities, and veterans and small businesses owned by women, minorities, and veterans and (2) provide legislative recommendations for how to: (A) Promote the participation of women, minorities, and veterans in entrepreneurship activities and (B) increase the number of women, minorities, and veterans who apply for and obtain patents.

The USPTO understands that significant information gaps exist for documenting the number of and benefits from patents applied for and obtained by women, minorities, and veterans. This type of information is not collected by the USPTO as part of the patent application or granting process. The lack of information hampers efforts to assess the interrelationship of participation in the patent process and entrepreneurship activities by these groups, and inhibits analysis of whether and how participation could be enhanced through education, Federal program funding, coordination with universities and industry stakeholders, and other means. To overcome this limitation, the USPTO is engaging with other bureaus within the Department of Commerce and consulting with other U.S. government agencies, such as the SBA, U.S. Department of Treasury and the U.S. Army Office of Economic and Manpower Analysis, about possible data sharing or analysis, and are in the process of collecting information regarding legislative proposals or recommendations to increase entrepreneurship and utilization of the patent process by women, minorities, and veterans. In addition to these efforts, the USPTO believes that individuals, businesses and non-profit organizations outside government have relevant information on the number of and benefits from patents applied for and obtained by women, minorities, and veterans as well as small businesses owned by these groups. To assist in gathering this information, the USPTO invites the public to provide comments and to participate in any of three public hearings to be held in support of the SUCCESS Act study. The diversity and inclusiveness of the U.S. IP system is a national issue with stakeholders all across the U.S. With this in mind, we determined that three public hearings, located in Alexandria, VA, Detroit, MI, and San Jose, CA, would provide broad coverage of the Nation that would be helpful in reaching members of the public who might have valuable information to assist in these efforts and helpful in USPTO's ultimate preparation of the report.

Issues for Comment: The USPTO seeks comments on the participation of women, minorities, and veterans in entrepreneurship activities and the patent system. The questions enumerated below are a preliminary guide to aid the USPTO in collecting relevant information and to evaluate possible administrative or legislative recommendations that may be provided to Congress. The tenor of the following questions should not be taken as an indication that the USPTO has taken a position or is predisposed to any particular views. USPTO welcomes comments from the public on any issues that they believe are relevant to the scope of the study, and is particularly interested in answers to the following questions:

(1) What public data are available to identify the number of patents applied for and obtained by women, minorities and veterans?

(2) What public data are available to assess the social and private benefits that result from increasing the number of patents applied for and obtained by women, minorities, and veterans, as well as small businesses owned by these groups?

(3) What social and private benefits would you identify as resulting from increasing the number of patents applied for and obtained by women, minorities, and veterans?

(4) What social and private benefits to small businesses owned by women, minorities, and veterans would you identify as resulting from increasing the number of patents applied for and obtained by those businesses?

(5) Should the USPTO collect demographic information on patent inventors at the time of patent application, and why?

(6) To what extent, if at all, do educational and professional circumstances affect the ability of women, minorities, and veterans to apply for and obtain patents or to pursue entrepreneurial activities?

(7) To what extent, if at all, do socioeconomic factors facilitate or hinder the ability of women, minorities, and veterans to apply for and obtain patents or to pursue entrepreneurial activities?

(8) What entities or institutions, if any, should or should not play an active role in promoting the participation of women, minorities, and veterans in the patent system and entrepreneurial activities?

(9) What public policies, if any, should the Federal Government explore in order to promote the participation of women, minorities, and veterans in the patent system and entrepreneurial activities? Are there any public policies that the Federal Government should not explore?

(10) What action could USPTO take to address the participation of women, minorities, and veterans in the patent system and entrepreneurial activities?

(11) Are there policies, programs, or other targeted activities shown to be effective at recruiting and retaining women, minorities, and veterans in innovative and entrepreneurial activities? Are there policies, programs, or other targeted activities that have proved ineffective?

Oral Testimony: Members of the public are invited to present oral testimony at any scheduled hearing date. Those wishing an opportunity to do so must submit a request in writing via email no later than May 1, 2019.

Requests to testify must be submitted by email to successact@uspto.gov and should indicate the following: (1) The name of the person wishing to testify; (2) the person's contact information (telephone number and email address); (3) the organization(s) the person represents, if any; (4) an indication of the amount of time needed for the testimony; and (5) a preliminary written copy of the testimony. Based upon the requests received, an agenda for witness testimony will be sent to testifying requesters and posted on the USPTO internet website (address: www.uspto.gov/successact).

Dated: April 22, 2019.
Andrei Iancu,
Under Secretary of Commerce for Intellectual Property and Director of the United States Patent and Trademark Office.

[FR Doc. 2019-08437 Filed 4-25-19; 8:45 am]

BILLING CODE 3510-16-P